DEPARTMENT OF THE INTERIOR

Fish and Wildlife Service

[FWS-R6-ES-2011-N056; 60120-1113-0000-D2]

Endangered and Threatened Wildlife and Plants; Permits

AGENCY: Fish and Wildlife Service, Interior.

ACTION: Notice of receipt of applications for permits.

SUMMARY: We announce our receipt of applications to conduct certain activities pertaining to enhancement of survival of endangered species. The Endangered Species Act requires that we invite public comment on these permit applications.

DATES: Written comments on this request for a permit must be received by May 4, 2011.

ADDRESSES: Submit written data or comments to the Assistant Regional Director—Ecological Services, U.S. Fish and Wildlife Service, P.O. Box 25486, Denver Federal Center, Denver, CO 80225-0486; facsimile 303-236-0027.

SUPPLEMENTARY INFORMATION:

Public Availability of Comments

Before including your address, phone number, e-mail address, or other personal indentifying information in your comment, you should be aware that your entire comment—including your personal identifying information—may be made publicly available at any time. While you can ask us in your comment to withhold your personal identifying information from public review, we cannot guarantee that we will be able to do so.

Document Availability

Documents and other information submitted with these applications are available for review, subject to the requirements of the Privacy Act (5 U.S.C. 552a) and Freedom of Information Act (5 U.S.C. 552), by any party who submits a request for a copy of such documents within 30 days of the date of publication of this notice to Kris Olsen, by mail (see ADDRESSES) or by telephone at 303-236-4256. All comments we receive from individuals become part of the official public record.

Applications

The following applicants have requested issuance of enhancement of survival permits to conduct certain activities with endangered species pursuant to Section 10(a)(1)(A) of the Endangered Species Act of 1973, as amended (16 U.S.C. 1531 et seq.).

Renewals

Applicants: Rockford Plettner, Nebraska Public Power District, Columbus, Nebraska, TE-039100; Kathleen Triby, U.S. Fish and Wildlife Service, Bowdoin National Wildlife Refuge, Malta, Montana, TE-127250; and Chadwin Smith, Headwaters Corp., Kearney, Nebraska, TE-183430. These applicants request renewed permits to take interior least terns (Sterna antillarum athalassos) and piping plovers (Charadrius melodus) in conjunction with recovery activities throughout the species' ranges for the purpose of enhancing their survival and recovery.

Applicants: Brian Holmes, Bureau of Land Management, Meeker, Colorado, TE-121911; Ben Janis, Lower Brule Sioux Tribe, Lower Brule, South Dakota, TE-131398; and Duane Shroufe, Arizona Game and Fish Department, Phoenix, Arizona, TE-163125. These applicants request renewed permits to take black-footed ferrets (Mustela nigripes) in conjunction with recovery activities throughout the species' range for the purpose of enhancing its survival and recovery.

Applicants: U.S. Geological Survey, South Dakota Coop Unit, Brookings, South Dakota, TE-104580; Patrick Braaten, U.S. Geological Survey, Ft. Peck, Montana, TE-047285; Rob Holm, U.S. Fish and Wildlife Service, Garrison Dam National Fish Hatchery, Riverdale, North Dakota, TE-062035; and Jeffery Powell, U.S. Fish and Wildlife Service, Gavins Point National Fish Hatchery, Yankton, South Dakota, TE-109048. These applicants request renewed permits to take pallid sturgeons (Scaphirhynchus albus) in conjunction with recovery activities throughout the species' range for the purpose of enhancing its survival and recovery.

Applicants: Melvin Coonrod, EIS Environmental and Engineering Consulting, Helper, Utah, TE-044836; Jim Friedley, Bureau of Indian Affairs, Ignacio, Colorado, TE-047381; William Butler, ERO Resources Corp., Denver, Colorado, TE-040510; and Peter Smith, Smith Environmental and Engineering, Westminster, Colorado, TE-044780. These applicants request renewed permits to take Southwestern willow flycatchers (Empidonax traillii extimus) in conjunction with recovery activities throughout the species' range for the purpose of enhancing its survival and recovery.

Applicant: National Park Service, Prairie Cluster Ecological Monitoring, Republic, Missouri, TE-047288. The applicant requests a renewed permit to take Topeka shiner (Notropis topeka) in conjunction with recovery activities throughout the species' range for the purpose of enhancing its survival and recovery.

Applicant: Claire Crow, National Park Service, Zion National Park, Springdale, Utah, TE-057485. The applicant requests a renewed permit to take Southwestern willow flycatcher (Empidonax traillii extimus), Arctomecon humilis (Dwarf bear-poppy), Astragalus holmgreniorum (Holmgren milk-vetch), and Astragalus ampullarioides (Shivwitz milk-vetch) in conjunction with recovery activities throughout the species' range for the purpose of enhancing their survival and recovery.

Applicant: Rabdy Chapo, Lincoln Children's Zoo, Lincoln, Nebraska, TE-210754. The applicant requests a renewed permit to take Salt Creek tiger beetle (Cicindela nevadica lincolniana) in conjunction with recovery activities throughout the species' range for the purpose of enhancing its survival and recovery.

Display Renewal

Applicant: Robert Brynda, Landry's Downtown Aquarium, Denver, Colorado, TE-046427. The applicant requests a renewed permit to possess bonytail chub (Gila elegans), humpback chub (Gila cypha), Colorado pikeminnow (Ptychocheilus lucius), razorback sucker (Xyrauchen texanus), desert pupfish (Cyprinodon macularius), and green sea turtle (Chelonia mydas agassisi) for public display and propagation in conjunction with recovery activities for the purpose of enhancing their survival and recovery.

Applicant: Tony Korth, Ak-sar-ben Aquarium, Gretna, Nebraska, TE-039090. The applicant requests a renewed permit to possess pallid sturgeon (Scaphirhynchus albus) for public display and propagation in conjunction with recovery activities for the purpose of enhancing the species' survival and recovery.

Applicant: Tracy Brower-Thessing, Cheyenne Mountain Zoo, Colorado Springs, Colorado, TE-040748. The applicant requests a renewed permit to possess black-footed ferret (Mustela nigripes) and Wyoming toad (Bufo baxteri) for public display and propagation in conjunction with recovery activities for the purpose of enhancing their survival and recovery.

Applicant: Eddie Overbay, Texas Zoo, Victoria, Texas, TE-051840. The applicant requests a renewed permit to possess black-footed ferret (Mustela nigripes) for public display and propagation in conjunction with recovery activities for the purpose of enhancing the species' survival and recovery.

Applicant: Brent Anderson, Living Planet Aquarium, Sandy, Utah, TE-131638. The applicant requests a renewed permit to possess bonytail chub (Gila elegans), Colorado pikeminnow (Ptychocheilus lucius), June sucker (Chasmistes liorus), and razorback sucker (Xyrauchen texanus) for public display and propagation in conjunction with recovery activities for the purpose of enhancing their survival and recovery.

Applicant: Lee Jackson, National Mississippi River Museum, Dubuque, Iowa, TE-37337A. The applicant requests a permit to take Wyoming toad (Bufo baxteri) for public display and propagation in conjunction with recovery activities for the purpose of enhancing the species' survival and recovery.

Amendments

Applicant: Lee Simmons, Omaha's Henry Doorly Zoo, Omaha, NE, TE-053961. The applicant requests a permit amendment to add surveys for Salt Creek tiger beetle (Cicindela nevadica lincolniana) in conjunction with recovery activities throughout the species' range for the purpose of enhancing its survival and recovery.

New

Applicant: Stephen Spomer, Lincoln, NE, TE-37351A. The applicant requests a permit to take Salt Creek tiger beetle (Cicindela nevadica lincolniana) in conjunction with recovery activities throughout the species' range for the purpose of enhancing its survival and recovery.

Dated: March 28, 2011.
Hugh Morrison,
Acting Regional Director, Denver, Colorado.

[FR Doc. 2011-7879 Filed 4-1-11; 8:45 am]

BILLING CODE 4310-55-P